SMALL BUSINESS ADMINISTRATION

Data Collection Available for Public Comments

ACTION: 60-Day Notice and request for comments.

SUMMARY: In accordance with the Paperwork Reduction Act of 1995, this notice announces the Small Business Administration's intentions to request approval on a new and/or currently approved information collection.

DATES: Submit comments on or before August 9, 2013

ADDRESSES: Send all comments regarding whether this information collection is necessary for the proper performance of the function of the agency, whether the burden estimates are accurate, and if there are ways to minimize the estimated burden and enhance the quality of the collection, to Sheila Casey, Lead HR Specialist, Denver Finance Center, Small Business Administration, 721 19th Street, 3rd Floor, Denver, CO 80202.

FOR FURTHER INFORMATION CONTACT: Sheila Casey, Lead HR Specialist, 303-844-7792 sheila.casey@sba.gov Curtis B. Rich, Management Analyst, 202-205-7030 curtis.rich@sba.gov.

Title: “Alternative Creditworthiness Assessment.”

Abstract: Government wide requirements in the annual appropriations act, as well as OMB Circular A 123 Appendix B require agencies to conduct an alternative credit worthiness assessment when the credit score inquiry results in no score. This information of collection will be used as a means of making that alternative.

Description of Respondents: Personnel that assist in the process of loan applications.

Form Number: 2294.

Annual Responses: 10.

Annual Burden: 2 hrs.

Curtis Rich,
Management Analyst.

[FR Doc. 2013-13615 Filed 6-7-13; 8:45 am]

BILLING CODE 8025-01-P